ENVIRONMENTAL PROTECTION AGENCY

[Docket ID Numbers EPA-HQ-OECA-2010-0340, 0341, 0347, 0350—0377; FRL-9157-7]

Agency Information Collection Activities: Request for Comments on Thirty-One Proposed Information Collection Requests (ICRs)

AGENCY: Environmental Protection Agency (EPA).

ACTION: Notice.

SUMMARY: In compliance with the Paperwork Reduction Act (44 U.S.C. 3501 et seq.), this document announces that EPA is planning to submit the following thirty-one existing, approved, continuing Information Collection Requests (ICRs) to the Office of Management and Budget (OMB) for the purpose of renewing the ICRs. Before submitting the ICRs to OMB for review and approval, EPA is soliciting comments on specific aspects of the information collections as described under SUPPLEMENTARY INFORMATION.

DATES: Comments must be submitted on or before August 2, 2010.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II. C.

SUPPLEMENTARY INFORMATION:

A. How can I access the docket and/or submit comments?

(1) Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room 3334, 1301 Constitution Avenue, NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

(2) Instructions for Submitting Comments

Submit your comments by one of the following methods:

(a) Electronic Submission: Access http://www.regulations.gov and follow the on-line instructions for submitting comments.

(b) E-mail: docket.oeca@epa.gov.

(c) Fax: (202) 566-1511.

(d) Mail: Enforcement and Compliance Docket and Information Center (ECDIC), Environmental Protection Agency, EPA Docket Center (EPA/DC), Mailcode: 2201T, 1200 Pennsylvania Avenue, NW., Washington, DC 20460.

(e) Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are accepted only during the Docket Center's normal hours of operation, and special arrangements should be made for deliveries of boxed information.

Direct your comments to the specific docket listed in SUPPLEMENTARY INFORMATION, section II. B, and reference the OMB Control Number for the ICR. It is the EPA policy that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov website is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What should I consider when I prepare my comments for EPA?

You may find the following suggestions helpful for preparing comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

II. ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to: develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit thirty-one proposed continuing Information Collection Requests (ICR) to the Office of Management and Budget (OMB):

(1) Docket ID Number: EPA-HQ-OECA-2010-0341.

Title: NESHAP for Automobile and Light-duty Truck Surface Coating (40 CFR Part 63, Subpart IIII).

ICR Numbers: EPA ICR Number 2045.04, OMB Control Number 2060-0550.

ICR Status: This ICR is scheduled to expire on October 31, 2010.

(2) Docket ID Number: EPA-HQ-OECA-2010-0340.

Title: NESHAP for Plywood and Composite Products (40 CFR Part 63, Subpart DDDD).

ICR Numbers: EPA ICR Number 1984.04, OMB Control Number 2060-0552.

ICR Status: This ICR is scheduled to expire on October 31, 2010.

(3) Docket ID Number: EPA-HQ-OECA-2010-0360.

Title: NSPS for Stationary Gas Turbines (40 CFR Part 60, Subpart GG).

ICR Numbers: EPA ICR Number 1071.10, OMB Control Number 2060-0028.

ICR Status: This ICR is scheduled to expire on October 31, 2010.

(4) Docket ID Number: EPA-HQ-OECA-2010-0375.

Title: NESHAP for Petroleum Refineries (40 CFR Part 63, Subpart UUU).

ICR Numbers: EPA ICR Number 1844.04, OMB Control Number 2060-0554.

ICR Status: This ICR is scheduled to expire on October 31, 2010.

(5) Docket ID Number: EPA-HQ-OECA-2010-0370.

Title: Air Emission Standards for Tanks, Surface Impoundments and Containers (40 CFR Part 264, Subpart CC and 40 CFR Part 265).

ICR Numbers: EPA ICR Number 1593.08, OMB Control Number 2060-0318.

ICR Status: This ICR is scheduled to expire on October 31, 2010.

(6) Docket ID Number: EPA-HQ-OECA-2010-0350.

Title: NESHAP for Area Sources: Acrylic and Modacrylic Fibers Production, Carbon Black Production, Chemical Manufacturing: Chromium Compounds, Flexible Polyurethane Foam Production and Fabrication, Lead Acid Battery Manufacturing, and Wood Preserving.

ICR Numbers: EPA ICR Number 2256.03, OMB Control Number 2060-0598.

ICR Status: This ICR is scheduled to expire on October 31, 2010.

(7) Docket ID Number: EPA-HQ-OECA-2010-0373.

Title: NESHAP for Aerospace Manufacturing and Rework Facilities (40 CFR Part 63, Subpart GG).

ICR Numbers: EPA ICR Number 1687.08, OMB Control Number 2060-0314.

ICR Status: This ICR is scheduled to expire on November 30, 2010.

(8) Docket ID Number: EPA-HQ-OECA-2010-0367.

Title: NSPS for New Residential Wood Heaters (40 CFR Part 60, Subpart AAA).

ICR Numbers: EPA ICR Number 1176.09, OMB Control Number 2060-0161.

ICR Status: This ICR is scheduled to expire on December 31, 2010.

(9) Docket ID Number: EPA-HQ-OECA-2010-0359.

Title: NSPS for Electric Utility Steam Generating Units (40 CFR Part 60, Subpart Da).

ICR Numbers: EPA ICR Number 1053.10, OMB Control Number 2060-0023.

ICR Status: This ICR is scheduled to expire on January 31, 2011.

(10) Docket ID Number: EPA-HQ-OECA-2010-0362.

Title: NSPS for Phosphate Rock Plants (40 CFR Part 60, Subpart NN).

ICR Numbers: EPA ICR Number 1078.09, OMB Control Number 2060-0111.

ICR Status: This ICR is scheduled to expire on January 31, 2011.

(11) Docket ID Number: EPA-HQ-OECA-2010-0369.

Title: NSPS for Small Industrial-Commercial-Institutional Steam Generating Units (40 CFR Part 60, Subpart Dc).

ICR Numbers: EPA ICR Number 1564.08, OMB Control Number 2060-0202.

ICR Status: This ICR is scheduled to expire on January 31, 2011.

(12) Docket ID Number: EPA-HQ-OECA-2010-0366.

Title: NSPS for Rubber Tire Manufacturing (40 CFR Part 60, Subpart BBB).

ICR Numbers: EPA ICR Number 1158.10, OMB Control Number 2060-0156.

ICR Status: This ICR is scheduled to expire on January 31, 2011.

(13) Docket ID Number: EPA-HQ-OECA-2010-0376.

Title: Recordkeeping and Reporting Requirements of the Consolidated Federal Air Rule for the SOCMI.

ICR Numbers: EPA ICR Number 1854.07, OMB Control Number 2060-0443.

ICR Status: This ICR is scheduled to expire on January 31, 2011.

(14) Docket ID Number: EPA-HQ-OECA-2010-0355.

Title: NESHAP for Beryllium (40 CFR Part 61, Subpart C).

ICR Numbers: EPA ICR Number 0193.10, OMB Control Number 2060-0092.

ICR Status: This ICR is scheduled to expire on January 31, 2011.

(15) Docket ID Number: EPA-HQ-OECA-2010-0365.

Title: NSPS for VOC Emissions From Petroleum Refinery Wastewater Systems (40 CFR Part 60, Subpart QQQ).

ICR Numbers: EPA ICR Number 1136.10, OMB Control Number 2060-0172.

ICR Status: This ICR is scheduled to expire on February 28, 2011.

(16) Docket ID Number: EPA-HQ-OECA-2010-0363.

Title: NSPS for Onshore Natural Gas Processing Plants (40 CFR Part 60, Subparts KKK & LLL).

ICR Numbers: EPA ICR Number 1086.09, OMB Control Number 2060-0120.

ICR Status: This ICR is scheduled to expire on February 28, 2011.

(17) Docket ID Number: EPA-HQ-OECA-2010-0361.

Title: NESHAP for Benzene Emissions From Benzene Storage Vessels & Coke By Product Recovery Plants (40 CFR Part 61, Subparts L & Y).

ICR Numbers: EPA ICR Number 1080.13, OMB Control Number 2060-0185.

ICR Status: This ICR is scheduled to expire on February 28, 2011.

(18) Docket ID Number: EPA-HQ-OECA-2010-0357.

Title: NSPS for Equipment Leaks of VOC in Petroleum Refineries (40 CFR Part 60, Subpart GGG and GGGa).

ICR Numbers: EPA ICR Number 0983.12, OMB Control Number 2060-0067.

ICR Status: This ICR is scheduled to expire on February 28, 2011.

(19) Docket ID Number: EPA-HQ-OECA-2010-0352.

Title: NESHAP for Clay Ceramics Manufacturing, Glass Manufacturing, and Secondary Nonferrous Metals Processing Area Sources (40 CFR Part 63, Subpart RRRRRR, SSSSSS and TTTTTT).

ICR Numbers: EPA ICR Number 2274.03, OMB Control Number 2060-0606.

ICR Status: This ICR is scheduled to expire on March 31, 2011.

(20) Docket ID Number: EPA-HQ-OECA-2010-0347.

Title: NSPS for Stationary Spark Ignition Internal Combustion Engines (40 CFR Part 60, Subpart JJJJ).

ICR Numbers: EPA ICR Number 2227.03, OMB Control Number 2060-0610.

ICR Status: This ICR is scheduled to expire on March 31, 2011.

(21) Docket ID Number: EPA-HQ-OECA-2010-0356.

Title: NSPS for Asphalt Processing and Roofing Manufacture, (40 CFR Part 60, Subpart UU).

ICR Numbers: EPA ICR Number 0661.10, OMB Control Number 2060-0002.

ICR Status: This ICR is scheduled to expire on April 30, 2011.

(22) Docket ID Number: EPA-HQ-OECA-2010-0374.

Title: NESHAP for Primary Aluminum Reduction Plants (40 CFR Part 63, Subpart LL).

ICR Numbers: EPA ICR Number 1767.06, OMB Control Number 2060-0360.

ICR Status: This ICR is scheduled to expire on April 30, 2011.

(23) Docket ID Number: EPA-HQ-OECA-2010-0351.

Title: NESHAP for Paint Stripping and Miscellaneous Surface Coating Operations Area Sources (40 CFR Part 63, Subpart HHHHHH).

ICR Numbers: EPA ICR Number 2268.03, OMB Control Number 2060-0607

ICR Status: This ICR is scheduled to expire on April 30, 2011.

(24) Docket ID Number: EPA-HQ-OECA-2010-0372.

Title: NESHAP for Epoxy Resin and Non-Nylon Polyamide Production (40 CFR Part 63, Subpart W).

ICR Numbers: EPA ICR Number 1681.07, OMB Control Number 2060-0290.

ICR Status: This ICR is scheduled to expire on May 31, 2011.

(25) Docket ID Number: EPA-HQ-OECA-2010-0364.

Title: NESHAP for Beryllium Rocket Motor Fuel Firing (40 CFR Part 61, Subpart D).

ICR Numbers: EPA ICR Number 1125.06, OMB Control Number 2060-0394.

ICR Status: This ICR is scheduled to expire on May 31, 2011.

(26) Docket ID Number: EPA-HQ-OECA-2010-0354.

Title: NESHAP for Vinyl Chloride (40 CFR Part 61, Subpart F).

ICR Numbers: EPA ICR Number 0186.12, OMB Control Number 2060-0071.

ICR Status: This ICR is scheduled to expire on May 31, 2011.

(27) Docket ID Number: EPA-HQ-OECA-2010-0358.

Title: NSPS for Portland Cement Plants (40 CFR Part 60, Subpart F).

ICR Numbers: EPA ICR Number 1051.11, OMB Control Number 2060-0025.

ICR Status: This ICR is scheduled to expire on July 31, 2011.

(28) Docket ID Number: EPA-HQ-OECA-2010-0368.

Title: NSPS for Polymeric Coating of Supporting Substrates Facilities (40 CFR Part 60, Subpart VVV).

ICR Numbers: EPA ICR Number 1284.09, OMB Control Number 2060-0181.

ICR Status: This ICR is scheduled to expire on July 31, 2011.

(29) Docket ID Number: EPA-HQ-OECA-2010-0371.

Title: NESHAP for Marine Tank Vessel Loading Operations (40 CFR Part 63, Subpart Y).

ICR Numbers: EPA ICR Number 1679.07, OMB Control Number 2060-0289.

ICR Status: This ICR is scheduled to expire on July 31, 2011.

(30) Docket ID Number: EPA-HQ-OECA-2010-0377.

Title: NESHAP for Solvent Extraction for Vegetable Oil Production (40 CFR Part 63, Subpart GGGG).

ICR Numbers: EPA ICR Number 1947.05, OMB Control Number 2060-0471.

ICR Status: This ICR is scheduled to expire on July 31, 2011.

(31) Docket ID Number: EPA-HQ-OECA-2010-0353.

Title: NESHAP for Electric Arc Furnace Steelmaking Facilities Area Sources (40 CFR Part 63, Subpart YYYYYY).

ICR Numbers: EPA ICR Number 2277.03, OMB Control Number 2060-0608.

ICR Status: This ICR is scheduled to expire on July 31, 2011.

C. Contact Individuals for ICRs

(1) NESHAP for Automobile and Light-duty Truck Surface Coating (40 CFR part 63, subpart IIII); Learia Williams of the Office of Compliance (202) 564-4113 or via e-mail to williams.learia@epa.gov; EPA ICR Number 2045.04, OMB Control Number 2060-0550; expiration date October 31, 2010.

(2) NESHAP for Plywood and Composite Products (40 CFR part 63, subpart DDDD); Learia Williams of the Office of Compliance (202) 564-4113 or via e-mail to williams.learia@epa.gov; EPA ICR Number 1984.04, OMB Control Number 2060-0552; expiration October 31, 2010.

(3) NSPS for Stationary Gas Turbines (40 CFR part 60, subpart GG); Learia Williams of the Office of Compliance (202) 564-4113 or via e-mail to williams.learia@epa.gov; EPA ICR Number 1071.10, OMB Control Number 2060-0028; expiration October 31, 2010.

(4) NESHAP for Petroleum Refineries (40 CFR part 63, subpart UUU); Robert Marshall, Jr. of the Office of Compliance (202) 564-7021 or via e-mail to marshall.robert@epa.gov; EPA ICR Number 1844.04, OMB Control Number 2060-0554; expiration date October 31, 2010.

(5) Air Emission Standards for Tanks, Surface Impoundments and Containers (40 CFR part 264, subpart CC and 40 CFR part 265); Learia Williams of the Office of Compliance (202) 564-4113 or via e-mail to williams.learia@epa.gov; EPA ICR Number 1593.08, OMB Control Number 2060-0318; expiration date October 31, 2010.

(6) NESHAP for Area Sources: Acrylic and Modacrylic Fibers Production, Carbon Black Production, Chemical Manufacturing: Chromium Compounds, Flexible Polyurethane Foam Production and Fabrication, Lead Acid Battery Manufacturing, and Wood Preserving; Learia Williams of the Office of Compliance (202) 564-4113 or via e-mail to williams.learia@epa.gov; EPA ICR Number 2256.03, OMB Control Number 2060-0598; expiration October 31, 2010.

(7) NESHAP for Aerospace Manufacturing and Rework Facilities (40 CFR part 63, subpart GG); Learia Williams of the Office of Compliance (202) 564-4113 or via e-mail to williams.learia@epa.gov; EPA ICR Number 1687.08, OMB Control Number 2060-0314; expiration date November 30, 2010.

(8) NSPS for New Residential Wood Heaters (40 CFR Part 60, Subpart AAA); Learia Williams of the Office of Compliance (202) 564-4113 or via e-mail to williams.learia@epa.gov; EPA ICR Number 1176.09, OMB Control Number 2060-0161; expiration December 31, 2010.

(9) NSPS for Electric Utility Steam Generating Units (40 CFR part 60, subpart Da); Robert Marshall, Jr. of the Office of Compliance (202) 564-7021 or via e-mail to marshall.robert@epa.gov; EPA ICR Number 1053.10, OMB Control Number 2060-0023; expiration January 31, 2011.

(10) NSPS for Phosphate Rock Plants (40 CFR Part 60, Subpart NN); Robert Marshall, Jr. of the Office of Compliance (202) 564-7021 or via e-mail to marshall.robert@epa.gov; EPA ICR Number 1078.09, OMB Control Number 2060-0111; expiration date January 31, 2011.

(11) NSPS for Small Industrial-Commercial-Institutional Steam Generating Units (40 CFR part 60, subpart Dc); Learia Williams of the Office of Compliance (202) 564-4113 or via e-mail to williams.learia@epa.gov; EPA ICR Number 1564.08, OMB Control Number 2060-0202; expiration January 31, 2011.

(12) NSPS for Rubber Tire Manufacturing (40 CFR part 60, Subpart BBB); Learia Williams of the Office of Compliance (202) 564-4113 or via e-mail to williams.learia@epa.gov; EPA ICR Number 1158.10, OMB Control Number 2060-0156; expiration date January 31, 2011.

(13) Recordkeeping and Reporting Requirements of the Consolidated Federal Air Rule for the SOCMI; Robert Marshall, Jr. of the Office of Compliance (202) 564-7021 or via e-mail to marshall.robert@epa.gov; EPA ICR Number 1854.07, OMB Control Number 2060-0443; expiration January 31, 2011.

(14) NESHAP for Beryllium (40 CFR part 61, subpart C); Learia Williams of the Office of Compliance (202) 564-4113 or via e-mail to williams.learia@epa.gov; EPA ICR Number 0193.10, OMB Control Number 2060-0092; expiration January 31, 2011.

(15) NSPS for VOC Emissions from Petroleum Refinery Wastewater Systems (40 CFR part 60, subpart QQQ); Robert Marshall, Jr. of the Office of Compliance (202) 564-7021 or via e-mail to marshall.robert@epa.gov; EPA ICR Number 1136.10, OMB Control Number 2060-0172; expiration February 28, 2011.

(16) NSPS for Onshore Natural Gas Processing Plants (40 CFR part 60, subparts KKK & LLL); Robert Marshall, Jr. of the Office of Compliance (202) 564-7021 or via e-mail to marshall.robert@epa.gov; EPA ICR Number 1086.09, OMB Control Number 2060-0120; expiration February 28, 2011.

(17) NESHAP for Benzene Emissions From Benzene Storage Vessels & Coke By Product Recovery Plants (40 CFR part 61, subparts L & Y); Learia Williams of the Office of Compliance (202) 564-4113 or via e-mail to williams.learia@epa.gov; EPA ICR Number 1080.13, OMB Control Number 2060-0185; expiration February 28, 2011.

(18) NSPS for Equipment Leaks of VOC in Petroleum Refineries (40 CFR part 60, subpart GGG and GGGa); Robert Marshall, Jr. of the Office of Compliance (202) 564-7021 or via e-mail to marshall.robert@epa.gov; EPA ICR Number 0983.12, OMB Control Number 2060-0067; expiration February 28, 2011.

(19) NESHAP for Clay Ceramics Manufacturing, Glass Manufacturing, and Secondary Nonferrous Metals Processing Area Sources (40 CFR part 63, subpart RRRRRR, SSSSSS and TTTTTT); Learia Williams of the Office of Compliance (202) 564-4113 or via e-mail to williams.learia@epa.gov; EPA ICR Number 2274.03, OMB Control Number 2060-0606; expiration March 31, 2011.

(20) NSPS for Stationary Spark Ignition Internal Combustion Engines (40 CFR part 60, subpart JJJJ); Learia Williams of the Office of Compliance (202) 564-4113 or via e-mail to williams.learia@epa.gov; EPA ICR Number 2227.03, OMB Control Number 2060-0610; expiration March 31, 2011.

(21) NSPS for Asphalt Processing and Roofing Manufacture, (40 CFR part 60, subpart UU); Robert Marshall, Jr. of the Office of Compliance (202) 564-7021 or via e-mail to marshall.robert@epa.gov; EPA ICR Number 0661.10, OMB Control Number 2060-0002; expiration April 30, 2011.

(22) NESHAP for Primary Aluminum Reduction Plants (40 CFR part 63, subpart LL); Robert Marshall, Jr. of the Office of Compliance (202) 564-7021 or via e-mail to marshall.robert@epa.gov; EPA ICR Number 1767.06, OMB Control Number 2060-0360; expiration April 30, 2011.

(23) NESHAP for Paint Stripping and Miscellaneous Surface Coating Operations Area Sources (40 CFR part 63, subpart HHHHHH); Robert Marshall, Jr. of the Office of Compliance (202) 564-7021 or via e-mail to marshall.robert@epa.gov; EPA ICR Number 2268.03, OMB Control Number 2060-0607; expiration April 30, 2011.

(24) NESHAP for Epoxy Resin and Non-Nylon Polyamide Production (40 CFR part 63, subpart W); Learia Williams of the Office of Compliance (202) 564-4113 or via e-mail to williams.learia@epa.gov; EPA ICR Number 1681.07, OMB Control Number 2060-0290; expiration May 31, 2011.

(25) NESHAP for Beryllium Rocket Motor Fuel Firing (40 CFR part 61, subpart D); Robert Marshall, Jr. of the Office of Compliance (202) 564-7021 or via e-mail to marshall.robert@epa.gov; EPA ICR Number 1125.06, OMB Control Number 2060-0394; expiration May 31, 2011.

(26) NESHAP for Vinyl Chloride (40 CFR part 61, subpart F); Learia Williams of the Office of Compliance (202) 564-4113 or via e-mail to williams.learia@epa.gov; EPA ICR Number 0186.12, OMB Control Number 2060-0071; expiration May 31, 2011.

(27) NSPS for Portland Cement Plants (40 CFR part 60, subpart F); Robert Marshall, Jr. of the Office of Compliance (202) 564-7021 or via e-mail to marshall.robert@epa.gov; EPA ICR Number 1051.11, OMB Control Number 2060-0025; expiration July 31, 2011.

(28) NSPS for Polymeric Coating of Supporting Substrates Facilities (40 CFR part 60, subpart VVV); Learia Williams of the Office of Compliance (202) 564-4113 or via e-mail to williams.learia@epa.gov; EPA ICR Number 1284.09, OMB Control Number 2060-0181; expiration July 31, 2011.

(29) NESHAP for Marine Tank Vessel Loading Operations (40 CFR part 63, subpart Y); Robert Marshall, Jr. of the Office of Compliance (202) 564-7021 or via e-mail to marshall.robert@epa.gov; EPA ICR Number 1679.07, OMB Control Number 2060-0289; expiration July 31, 2011.

(30) NESHAP for Solvent Extraction for Vegetable Oil Production (40 CFR part 63, subpart GGGG); Learia Williams of the Office of Compliance (202) 564-4113 or via e-mail to williams.learia@epa.gov; EPA ICR Number 1947.05, OMB Control Number 2060-0471; expiration July 31, 2011.

(31) NESHAP for Electric Arc Furnace Steelmaking Facilities Area Sources (40 CFR part 63, subpart YYYYYY); Learia Williams of the Office of Compliance (202) 564-4113 or via e-mail to williams.learia@epa.gov; EPA ICR Number 2277.03, OMB Control Number 2060-0608; expiration July 31, 2011.

D. Information for Individual ICRs

(1) NESHAP for Automobile and Light-duty Truck Surface Coating (40 CFR part 63, subpart IIII), Docket ID Number: EPA-HQ-OECA-2010-0341, EPA ICR Number 2045.04, OMB Control Number 2060-0550, expiration October 31, 2010.

Affected Entities: Entities potentially affected by this action are the owners or operators of automobile and light-duty truck surface coating facilities.

Abstract: The affected entities are subject to the General Provisions of the NESHAP at 40 CFR part 63, subpart A, and any changes, or additions to the General Provisions specified at 40 CFR part 63, subpart IIII.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 91 hours per response.

Respondents/Affected Entities: Owners or operators of automobile and light-duty truck surface coating facilities.

Estimated Number of Respondents: 65.

Frequency of Response: Initially, semiannually and on-occasion.

Estimated Total Annual Hour Burden: 25,190.

Estimated Total Annual Cost: $2,321,787, which includes $2,243,787 in labor costs, no capital/startup costs and $78,000 in operating and maintenance costs.

(2) NESHAP for Plywood and Composite Products (40 CFR Part 63, Subpart DDDD), Docket ID Number: EPA-HQ-OECA-2010-0340, EPA ICR Number 1984.04, OMB Control Number 2060-0552, expiration October 31, 2010.

Affected Entities: Entities potentially affected by this action are the owners or operators of plywood and composite products facilities.

Abstract: The affected entities are subject to the General Provisions of the NESHAP at 40 CFR part 63, subpart A, and any changes, or additions to the General Provisions specified at 40 CFR part 63, subpart DDDD.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 22 hours per response.

Respondents/Affected Entities: Owners or operators of plywood and composite products facilities.

Estimated Number of Respondents: 228.

Frequency of Response: Initially and semiannually.

Estimated Total Annual Hour Burden: 12,732.

Estimated Total Annual Cost: $1,651,907, which includes $1,207,585 in labor costs, $428,640 in capital/startup costs and $15,682 in operating and maintenance costs.

(3) NSPS for Stationary Gas Turbines (40 CFR part 60, subpart GG), Docket ID Number: EPA-HQ-OECA-2010-0360, EPA ICR Number 1071.10, OMB Control Number 2060-0028, expiration October 31, 2010.

Affected Entities: Entities potentially affected by this action are the owners or operators of stationary gas turbines.

Abstract: The affected entities are subject to the General Provisions of the NESHAP at 40 CFR part 60, subpart A, and any changes, or additions to the General Provisions specified at 40 CFR part 60, subpart GG.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 56 hours per response.

Respondents/Affected Entities: Owners or operators of stationary gas turbines.

Estimated Number of Respondents: 535.

Frequency of Response: Initially, semiannually and on-occasion.

Estimated Total Annual Hour Burden: 59,519.

Estimated Total Annual Cost: $3,837,190, which includes $3,837,190 in labor costs, no capital/startup costs and no operating and maintenance costs.

(4) NESHAP for Petroleum Refineries (40 CFR part 63, subpart UUU), Docket ID Number: EPA-HQ-OECA-2010-0375, EPA ICR Number 1844.04, OMB Control Number 2060-0554, expiration October 31, 2010.

Affected Entities: Entities potentially affected by this action are the owners or operators of catalytic cracking, reforming or sulfur units at petroleum refineries.

Abstract: The affected entities are subject to the General Provisions of the NESHAP at 40 CFR part 63, subpart A, and any changes, or additions to the General Provisions specified at 40 CFR part 63, subpart UUU.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 42 hours per response.

Respondents/Affected Entities: Owners or operators of catalytic cracking, reforming or sulfur units at petroleum refineries.

Estimated Number of Respondents: 132.

Frequency of Response: Initially and semiannually.

Estimated Total Annual Hour Burden: 11,040.

Estimated Total Annual Cost: $7,833,941, which includes $983,339 in labor costs, no capital/startup costs and $6,850,602 in operating and maintenance costs.

(5) Air Emission Standards for Tanks, Surface Impoundments and Containers (40 CFR part 264, subpart CC and 40 CFR part 265), Docket ID Number: EPA-HQ-OECA-2010-0370, EPA ICR Number 1593.08, OMB Control Number 2060-0318, expiration October 31, 2010.

Affected Entities: Entities potentially affected by this action are the owners or operators of tanks, surface impoundments and containers.

Abstract: The affected entities are subject to provisions specified at 40 CFR parts 264 and 265.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 114 hours per response.

Respondents/Affected Entities: Owners or operators of tanks, surface impoundments and containers.

Estimated Number of Respondents: 6,209.

Frequency of Response: Initially and semiannually.

Estimated Total Annual Hour Burden: 711,409.

Estimated Total Annual Cost: $57,632,335, which includes $45,214,335 in labor costs, no capital/startup costs and $12,418,000 in operating and maintenance costs.

(6) NESHAP for Area Sources: Acrylic and Modacrylic Fibers Production, Carbon Black Production, Chemical Manufacturing: Chromium Compounds, Flexible Polyurethane Foam Production and Fabrication, Lead Acid Battery Manufacturing, and Wood Preserving, Docket ID Number: EPA-HQ-OECA-2010-0350, EPA ICR Number 2256.03, OMB Control Number 2060-0598, expiration October 31, 2010.

Affected Entities: Entities potentially affected by this action are the owners or operators of facilities involved with acrylic and modacrylic fibers production, carbon black production, chemical manufacturing: chromium compounds, flexible polyurethane foam production and fabrication, lead acid battery manufacturing, and wood preserving.

Abstract: The affected entities are subject to the General Provisions of the NESHAP at 40 CFR part 63, subpart A, and any changes, or additions to the General Provisions specified at 40 CFR part 63, subparts LLLLLL, MMMMMM, NNNNNN, OOOOOO, PPPPPP and QQQQQQ.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 12 hours per response.

Respondents/Affected Entities: Owners or operators of facilities involved with acrylic and modacrylic fibers production, carbon black production, chemical manufacturing: chromium compounds, flexible polyurethane foam production and fabrication, lead acid battery manufacturing, and wood preserving.

Estimated Number of Respondents: 957.

Frequency of Response: Initially, semiannually and on-occasion.

Estimated Total Annual Hour Burden: 4,215.

Estimated Total Annual Cost: $358,127, which includes $357,327 in labor costs, no capital/startup costs and $800 in operating and maintenance costs.

(7) NESHAP for Aerospace Manufacturing and Rework Facilities (40 CFR part 63, subpart GG), Docket ID Number: EPA-HQ-OECA-2010-0373, EPA ICR Number 1687.08, OMB Control Number 2060-0314, expiration November 30, 2010.

Affected Entities: Entities potentially affected by this action are the owners or operators of aerospace manufacturing and rework facilities.

Abstract: The affected entities are subject to the General Provisions of the NESHAP at 40 CFR part 63, subpart A, and any changes, or additions to the General Provisions specified at 40 CFR part 63, subpart GG.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 259 hours per response.

Respondents/Affected Entities: Owners or operators of aerospace manufacturing and rework facilities sulfur units at petroleum refineries.

Estimated Number of Respondents: 136.

Frequency of Response: Initially, semiannually and on-occasion.

Estimated Total Annual Hour Burden: 141,018.

Estimated Total Annual Cost: $12,611,605, which includes $12,575,605 in labor costs, no capital/startup costs and $136,000 in operating and maintenance costs.

(8) NSPS for New Residential Wood Heaters (40 CFR part 60, subpart AAA), Docket ID Number: EPA-HQ-OECA-2010-0367, EPA ICR Number 1176.09, OMB Control Number 2060-0161, expiration December 31, 2010.

Affected Entities: Entities potentially affected by this action are the manufacturers, testing laboratories, and retailers of new residential wood heaters.

Abstract: The affected entities are subject to the General Provisions of the NESHAP at 40 CFR part 60, subpart A, and any changes, or additions to the General Provisions specified at 40 CFR part 60, subpart AAA.

Affected entities must, among other requirements, submit initial performance tests reports, obtain certifications, perform quality assurance activities, and record sales data.

Burden Statement: The annual public reporting and recordkeeping burden for this collection of information is estimated to average 51 hours per response.

Respondents/Affected Entities: Manufacturers, testing laboratories, and retailers of new residential wood heaters.

Estimated Number of Respondents: 934.

Frequency of Response: Initially and on-occasion.

Estimated Total Annual Hour Burden: 141,018.

Estimated Total Annual Cost: $1,963,367, which includes $615,367 in labor costs, $1,345,500 in capital/startup costs and $2,500 in operating and maintenance costs.

(9) NSPS for Electric Utility Steam Generating Units (40 CFR part 60, subpart Da), Docket ID Number: EPA-HQ-OECA-2010-0359, EPA ICR Number 1053.10, OMB Control Number 2060-0023, expiration January 31, 2011.

Affected Entities: Entities potentially affected by this action are the owners or operators of electric utility steam generating units.

Abstract: The affected entities are subject to the General Provisions of the NESHAP at 40 CFR part 60, subpart A, and any changes, or additions to the General Provisions specified at 40 CFR part 60, subpart Da.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 96 hours per response.

Respondents/Affected Entities: Owners or operators of electric utility steam generating units.

Estimated Number of Respondents: 677.

Frequency of Response: Initially, quarterly and semiannually.

Estimated Total Annual Hour Burden: 160,839.

Estimated Total Annual Cost: $26,675,248, which includes $14,320,248 in labor costs, $2,200,000 in capital/startup costs and $10,155,000 in operating and maintenance costs.

(10) NSPS for Phosphate Rock Plants (40 CFR part 60, subpart NN), Docket ID Number: EPA-HQ-OECA-2010-0362, EPA ICR Number 1078.09, OMB Control Number 2060-0111, expiration January 31, 2011.

Affected Entities: Entities potentially affected by this action are the owners or operators of phosphate rock plants.

Abstract: The affected entities are subject to the General Provisions of the NESHAP at 40 CFR part 60, subpart A, and any changes, or additions to the General Provisions specified at 40 CFR part 60, subpart NN.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 55 hours per response.

Respondents/Affected Entities: Owners or operators of phosphate rock plants.

Estimated Number of Respondents: 13.

Frequency of Response: Initially and semiannually.

Estimated Total Annual Hour Burden: 1,602.

Estimated Total Annual Cost: $226,427, which includes $102,245 in labor costs, $12,210 in capital/startup costs and $111,972 in operating and maintenance costs.

(11) NSPS for Small Industrial-Commercial-Institutional Steam Generating Units (40 CFR part 60, subpart Dc), Docket ID Number: EPA-HQ-OECA-2010-0369, EPA ICR Number 1564.08, OMB Control Number 2060-0202, expiration January 31, 2011.

Affected Entities: Entities potentially affected by this action are the owners or operators of small industrial-commercial-institutional steam generating units.

Abstract: The affected entities are subject to the General Provisions of the NESHAP at 40 CFR part 60, subpart A, and any changes, or additions to the General Provisions specified at 40 CFR part 60, subpart Dc.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 293 hours per response.

Respondents/Affected Entities: Owners or operators of small industrial-commercial-institutional steam generating units.

Estimated Number of Respondents: 235.

Frequency of Response: Initially, semiannually and on-occasion.

Estimated Total Annual Hour Burden: 159,972.

Estimated Total Annual Cost: $19,653,054, which includes $10,206,909 in labor costs, $1,491,005 in capital/startup costs and $7,955,160 in operating and maintenance costs.

(12) NSPS for Rubber Tire Manufacturing (40 CFR part 60, subpart BBB), Docket ID Number: EPA-HQ-OECA-2010-0366, EPA ICR Number 1158.10, OMB Control Number 2060-0156, expiration January 31, 2011.

Affected Entities: Entities potentially affected by this action are the owners or operators of rubber tire manufacturing plants.

Abstract: The affected entities are subject to the General Provisions of the NESHAP at 40 CFR part 60, subpart A, and any changes, or additions to the General Provisions specified at 40 CFR part 60, subpart BBB.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 167 hours per response.

Respondents/Affected Entities: Owners or operators of rubber tire manufacturing plants.

Estimated Number of Respondents: 41.

Frequency of Response: Initially, semiannually and annually.

Estimated Total Annual Hour Burden: 13,323.

Estimated Total Annual Cost: $866,493, which includes $850,093 in labor costs, no capital/startup costs and $16,400 in operating and maintenance costs.

(13) Recordkeeping and Reporting Requirements of the Consolidated Federal Air Rule for the SOCMI, Docket ID Number: EPA-HQ-OECA-2010-0376, EPA ICR Number 1854.07, OMB Control Number 2060-0443, expiration January 31, 2011.

Affected Entities: Entities potentially affected by this action are the owners or operators of synthetic organic chemical manufacturing facilities.

Abstract: The synthetic organic chemical manufacturing industry (SOCMI) is regulated by the New Source Performance Standards (NSPS) and National Emission Standards for Hazardous Air Pollutants (NESHAP) standards. The affected entities are subject to the General Provisions of the NSPS at 40 CFR part 60, subpart A, and any changes or additions to the General Provisions specified at 40 CFR part 60, subparts Ka, Kb, VV, DDD, III, NNN and RRR. The affected entities are also subject to the General Provisions of the NESHAP at 40 CFR part 63, subpart A, and any changes, or additions to the General Provisions specified at 40 CFR part 63, subparts BB, Y, V, F, G, H and I. As an alternative, SOCMI sources may choose to comply with the above standards under the consolidated air rule (CAR) at 40 CFR Part 65 as promulgated December 14, 2000.

Synthetic organic chemical manufacturing facilities subject to NSPS requirements must notify EPA of construction, modification, startups, shutdowns, date and results of initial performance test and excess emissions. Semiannual reports are also required.

Synthetic organic chemical manufacturing facilities subject to NESHAP requirements must submit one-time-only reports of any physical or operational changes and the results of initial performance tests. Owners or operators are also required to maintain records of the occurrence and duration of any startup, shutdown, or malfunction in the operation of an affected facility, or any period during which the monitoring system is inoperative. Periodic reports are also required, at a minimum, semiannually.

Under the CAR requirements periodic, but less burdensome reporting is required.

Burden Statement: The annual public reporting and recordkeeping burden for this collection of information is estimated to average 602 hours per response.

Respondents/Affected Entities: Owners or operators of synthetic organic chemical manufacturing facilities.

Estimated Number of Respondents: 3,305.

Frequency of Response: Initially, on-occasion, semiannually and annually.

Estimated Total Annual Hour Burden: 1,988,903.

Estimated Total Annual Cost: $241,054,751, which includes $145,725,751 in labor costs, $3,373,000 capital/startup costs and $91,956,000 in operating and maintenance costs.

(14) NESHAP for Beryllium (40 CFR part 61, subpart C), Docket ID Number: EPA-HQ-OECA-2010-0355, EPA ICR Number 0193.10, OMB Control Number 2060-0092, expiration January 31, 2011.

Affected Entities: Entities potentially affected by this action are the owners or operators of beryllium producing facilities.

Abstract: The affected entities are subject to the General Provisions of the NESHAP at 40 CFR part 61, subpart A, and any changes, or additions to the General Provisions specified at 40 CFR part 61, subpart C.

Owners or operators of the affected facilities must submit a one-time-only report of any physical or operational changes, initial performance tests, and periodic reports and results. Owners or operators are also required to maintain records of the occurrence and duration of any startup, shutdown, or malfunction in the operation of an affected facility, or any period during which the monitoring system is inoperative.

Burden Statement: The annual public reporting and recordkeeping burden for this collection of information is estimated to average 16 hours per response.

Respondents/Affected Entities: Owners or operators of beryllium producing facilities.

Estimated Number of Respondents: 33.

Frequency of Response: Monthly and on-occasion.

Estimated Total Annual Hour Burden: 2,627.

Estimated Total Annual Cost: $201,160, which includes $166,160 in labor costs, no capital/startup costs and $35,000 in operating and maintenance costs.

(15) NSPS for VOC Emissions from Petroleum Refinery Wastewater Systems (40 CFR part 60, subpart QQQ), Docket ID Number: EPA-HQ-OECA-2010-0365, EPA ICR Number 1136.10, OMB Control Number 2060-0172, expiration February 28, 2011.

Affected Entities: Entities potentially affected by this action are the owners or operators of petroleum refinery wastewater systems.

Abstract: The affected entities are subject to the General Provisions of the NESHAP at 40 CFR part 60, subpart A, and any changes, or additions to the General Provisions specified at 40 CFR part 60, subpart QQQ.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 34 hours per response.

Respondents/Affected Entities: Owners or operators of petroleum refinery wastewater systems.

Estimated Number of Respondents: 135.

Frequency of Response: Initially, on-occasion, quarterly and semiannually.

Estimated Total Annual Hour Burden: 9,237.

Estimated Total Annual Cost: $840,360, which includes $822,810 in labor costs, no capital/startup costs and $17,550 in operating and maintenance costs.

(16) NSPS for Onshore Natural Gas Processing Plants (40 CFR part 60, subparts KKK & LLL), Docket ID Number: EPA-HQ-OECA-2010-0363, EPA ICR Number 1086.09, OMB Control Number 2060-0120, expiration February 28, 2011.

Affected Entities: Entities potentially affected by this action are the owners or operators of onshore natural gas processing plants.

Abstract: The affected entities are subject to the General Provisions of the NESHAP at 40 CFR part 60, subpart A, and any changes, or additions to the General Provisions specified at 40 CFR part 60, subparts KKK & LLL.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 91 hours per response.

Respondents/Affected Entities: Owners or operators of onshore natural gas processing plants.

Estimated Number of Respondents: 563.

Frequency of Response: Initially, semiannually and on-occasion.

Estimated Total Annual Hour Burden: 149,180.

Estimated Total Annual Cost: $9,857,058, which includes $9,518,358 in labor costs, $219,000 in capital/startup costs and $119,700 in operating and maintenance costs.

(17) NESHAP for Benzene Emissions From Benzene Storage Vessels & Coke By Product Recovery Plants (40 CFR part 61, subparts L & Y), Docket ID Number: EPA-HQ-OECA-2010-0361, EPA ICR Number 1080.13, OMB Control Number 2060-0185, expiration February 28, 2011.

Affected Entities: Entities potentially affected by this action are the owners or operators of benzene storage vessels and coke by product recovery plants.

Abstract: The affected entities are subject to the General Provisions of the NESHAP at 40 CFR part 61, subpart A, and any changes, or additions to the General Provisions specified at 40 CFR part 61, subparts L and Y.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 92 hours per response.

Respondents/Affected Entities: Owners or operators of benzene storage vessels and coke by product recovery plants.

Estimated Number of Respondents: 17.

Frequency of Response: Semiannually and on-occasion.

Estimated Total Annual Hour Burden: 3,137.

Estimated Total Annual Cost: $199,375, which includes $199,375 in labor costs, no capital/startup costs and no operating and maintenance costs.

(18) NSPS for Equipment Leaks of VOC in Petroleum Refineries (40 CFR Part 60, Subpart GGG and GGGa), Docket ID Number: EPA-HQ-OECA-2010-0357, EPA ICR Number 0983.12, OMB Control Number 2060-0067, expiration February 28, 2011.

Affected Entities: Entities potentially affected by this action are the owners or operators of petroleum refineries.

Abstract: The affected entities are subject to the General Provisions of the NESHAP at 40 CFR part 60, subpart A, and any changes, or additions to the General Provisions specified at 40 CFR part 60, subparts GGG and GGGa.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 195 hours per response.

Respondents/Affected Entities: Owners or operators of petroleum refineries.

Estimated Number of Respondents: 55.

Frequency of Response: Initially, semiannually and on-occasion.

Estimated Total Annual Hour Burden: 10,771.

Estimated Total Annual Cost: $839,323, which includes $839,323 in labor costs, no capital/startup costs and no operating and maintenance costs.

(19) NESHAP for Clay Ceramics Manufacturing, Glass Manufacturing, and Secondary Nonferrous Metals Processing Area Sources (40 CFR part 63, subpart RRRRRR, SSSSSS and TTTTTT), Docket ID Number: EPA-HQ-OECA-2010-0352, EPA ICR Number 2274.03, OMB Control Number 2060-0606, expiration March 31, 2011.

Affected Entities: Entities potentially affected by this action are the owners or operators of clay ceramics manufacturing, glass manufacturing, and secondary nonferrous metals processing area sources.

Abstract: The affected entities are subject to the General Provisions of the NESHAP at 40 CFR part 63, subpart A, and any changes, or additions to the General Provisions specified at 40 CFR part 63, subparts RRRRRR, SSSSSS and TTTTTT.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 7 hours per response.

Respondents/Affected Entities: Owners or operators of owners or operators of clay ceramics manufacturing, glass manufacturing, and secondary nonferrous metals processing area sources.

Estimated Number of Respondents: 54.

Frequency of Response: Initially, semiannually and on-occasion.

Estimated Total Annual Hour Burden: 395.

Estimated Total Annual Cost: $46,949, which includes $33,985 in labor costs, $3,110 capital/startup costs and $9,854 in operating and maintenance costs.

(20) NSPS for Stationary Spark Ignition Internal Combustion Engines (40 CFR part 60, subpart JJJJ), Docket ID Number: EPA-HQ-OECA-2010-0347, EPA ICR Number 2227.03, OMB Control Number 2060-0610, expiration March 31, 2011.

Affected Entities: Entities potentially affected by this action are the owners or operators of stationary spark ignition internal combustion engines.

Abstract: The affected entities are subject to the General Provisions of the NESHAP at 40 CFR part 60, subpart A, and any changes, or additions to the General Provisions specified at 40 CFR part 60, subpart JJJ.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average one hour per response.

Respondents/Affected Entities: Owners or operators of stationary spark ignition internal combustion engines.

Estimated Number of Respondents: 16,546.

Frequency of Response: Initially, semiannually and on-occasion.

Estimated Total Annual Hour Burden: 31,693.

Estimated Total Annual Cost: $17,730,929, which includes $9,905,877 in labor costs, no capital/startup costs and $7,825,052 in operating and maintenance costs.

(21) NSPS for Asphalt Processing and Roofing Manufacture, (40 CFR part 60, subpart UU), Docket ID Number: EPA-HQ-OECA-2010-0356, EPA ICR Number 0661.10, OMB Control Number 2060-0002, expiration April 30, 2011.

Affected Entities: Entities potentially affected by this action are the owners or operators of asphalt processing and roofing manufacture facilities.

Abstract: The affected entities are subject to the General Provisions of the NESHAP at 40 CFR part 60, subpart A, and any changes, or additions to the General Provisions specified at 40 CFR part 60, subpart UU.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 113 hours per response.

Respondents/Affected Entities: Owners or operators of asphalt processing and roofing manufacture facilities.

Estimated Number of Respondents: 144.

Frequency of Response: Initially and semiannually.

Estimated Total Annual Hour Burden: 33,912.

Estimated Total Annual Cost: $8,714,925, which includes $3,474,925 in labor costs, $200,000 in capital/startup costs and $5,040,000 in operating and maintenance costs.

(22) NESHAP for Primary Aluminum Reduction Plants (40 CFR Part 63, Subpart LL), Docket ID Number: EPA-HQ-OECA-2010-0374, EPA ICR Number 1767.06, OMB Control Number 2060-0360, expiration April 30, 2011.

Affected Entities: Entities potentially affected by this action are the owners or operators of primary aluminum reduction plants.

Abstract: The affected entities are subject to the General Provisions of the NESHAP at 40 CFR part 63, subpart A, and any changes, or additions to the General Provisions specified at 40 CFR part 63, subpart LL.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 2,001 hours per response.

Respondents/Affected Entities: Owners or operators of primary aluminum reduction plants.

Estimated Number of Respondents: 16.

Frequency of Response: Initially, semiannually and annually.

Estimated Total Annual Hour Burden: 80,046.

Estimated Total Annual Cost: $7,221,357, which includes $7,130,009 in labor costs, no capital/startup costs and $91,348 in operating and maintenance costs.

(23) NESHAP for Paint Stripping and Miscellaneous Surface Coating Operations Area Sources (40 CFR part 63, subpart HHHHHH), Docket ID Number: EPA-HQ-OECA-2010-0351, EPA ICR Number 2268.03, OMB Control Number 2060-0607, expiration April 30, 2011.

Affected Entities: Entities potentially affected by this action are the owners or operators of paint stripping and miscellaneous surface coating operations area sources.

Abstract: The affected entities are subject to the General Provisions of the NESHAP at 40 CFR part 63, subpart A, and any changes, or additions to the General Provisions specified at 40 CFR part 63, subpart HHHHHH.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 6 hours per response.

Respondents/Affected Entities: Owners or operators of paint stripping and miscellaneous surface coating operations area sources.

Estimated Number of Respondents: 39,812.

Frequency of Response: Initially, semiannually and on-occasion.

Estimated Total Annual Hour Burden: 41,298.

Estimated Total Annual Cost: $10,179,392, which includes $10,154,723 in labor costs, no capital/startup costs and $24,669 in operating and maintenance costs.

(24) NESHAP for Epoxy Resin and Non-Nylon Polyamide Production (40 CFR part 63, subpart W), Docket ID Number: EPA-HQ-OECA-2010-0372, EPA ICR Number 1681.07, OMB Control Number 2060-0290, expiration May 31, 2011.

Affected Entities: Entities potentially affected by this action are the owners or operators of epoxy resin and non-nylon polyamide production facilities.

Abstract: The affected entities are subject to the General Provisions of the NESHAP at 40 CFR part 63, subpart A, and any changes, or additions to the General Provisions specified at 40 CFR part 63, subpart W.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 214 hours per response.

Respondents/Affected Entities: Owners or operators of epoxy resin and non-nylon polyamide production facilities.

Estimated Number of Respondents: 7.

Frequency of Response: Initially, quarterly and semiannually.

Estimated Total Annual Hour Burden: 3,853.

Estimated Total Annual Cost: $252,711, which includes $243,711 in labor costs, no capital/startup costs and $9,000 in operating and maintenance costs.

(25) NESHAP for Beryllium Rocket Motor Fuel Firing (40 CFR part 61, subpart D), Docket ID Number: EPA-HQ-OECA-2010-0364, EPA ICR Number 1125.06, OMB Control Number 2060-0394, expiration May 31, 2011.

Affected Entities: Entities potentially affected by this action are the owners or operators of beryllium rocket motor fuel firing facilities.

Abstract: The affected entities are subject to the General Provisions of the NESHAP at 40 CFR part 61, subpart A, and any changes, or additions to the General Provisions specified at 40 CFR part 61, subpart D.

Owners or operators of the affected facilities must submit a one-time-only report of any physical or operational changes, initial performance tests, and periodic reports and results. Owners or operators are also required to maintain records of the occurrence and duration of any startup, shutdown, or malfunction in the operation of an affected facility, or any period during which the monitoring system is inoperative.

Burden Statement: The annual public reporting and recordkeeping burden for this collection of information is estimated to average 8 hours per response.

Respondents/Affected Entities: Owners or operators of beryllium rocket motor fuel firing facilities.

Estimated Number of Respondents: 1.

Frequency of Response: Initially and annually.

Estimated Total Annual Hour Burden: 8.

Estimated Total Annual Cost: $538, which includes $538 in labor costs, no capital/startup costs and no operating and maintenance costs.

(26) NESHAP for Vinyl Chloride (40 CFR part 61, subpart F), Docket ID Number: EPA-HQ-OECA-2010-0354, EPA ICR Number 0186.12, OMB Control Number 2060-0071, expiration May 31, 2011.

Affected Entities: Entities potentially affected by this action are the owners or operators of vinyl chloride production facilities.

Abstract: The affected entities are subject to the General Provisions of the NESHAP at 40 CFR part 61, subpart A, and any changes, or additions to the General Provisions specified at 40 CFR part 61, subpart F.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required quarterly.

Burden Statement: The annual public reporting and recordkeeping burden for this collection of information is estimated to average 60 hours per response.

Respondents/Affected Entities: Owners or operators of vinyl chloride production facilities.

Estimated Number of Respondents: 28.

Frequency of Response: Initially, quarterly and on-occasion.

Estimated Total Annual Hour Burden: 11,825.

Estimated Total Annual Cost: $2,014,515, which includes $754,515 in labor costs, no capital/startup costs and $1,260,000 in operating and maintenance costs.

(27) NSPS for Portland Cement Plants (40 CFR part 60, subpart F), Docket ID Number: EPA-HQ-OECA-2010-0358, EPA ICR Number 1051.11, OMB Control Number 2060-0025, expiration July 31, 2011.

Affected Entities: Entities potentially affected by this action are the owners or operators of portland cement plants.

Abstract: The affected entities are subject to the General Provisions of the NESHAP at 40 CFR part 60, subpart A, and any changes, or additions to the General Provisions specified at 40 CFR part 60, subpart F.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 56 hours per response.

Respondents/Affected Entities: Owners or operators of rubber tire manufacturing plants.

Estimated Number of Respondents: 118.

Frequency of Response: Initially and semiannually.

Estimated Total Annual Hour Burden: 13,806.

Estimated Total Annual Cost: $1,413,511, which includes $880,151 in labor costs, $37,000 in capital/startup costs and $495,000 in operating and maintenance costs.

(28) NSPS for Polymeric Coating of Supporting Substrates Facilities (40 CFR part 60, subpart VVV), Docket ID Number: EPA-HQ-OECA-2010-0368, EPA ICR Number 1284.09, OMB Control Number 2060-0181, expiration July 31, 2011.

Affected Entities: Entities potentially affected by this action are the owners or operators of polymeric coating of supporting substrates facilities.

Abstract: The affected entities are subject to the General Provisions of the NESHAP at 40 CFR part 60, subpart A, and any changes, or additions to the General Provisions specified at 40 CFR part 60, subpart VVV.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 83 hours per response.

Respondents/Affected Entities: Owners or operators of polymeric coating of supporting substrates facilities.

Estimated Number of Respondents: 53.

Frequency of Response: Initially, quarterly and semiannually.

Estimated Total Annual Hour Burden: 12,623.

Estimated Total Annual Cost: $1,410,367, which includes $805,367 in labor costs, $48,500 capital/startup costs and $556,500 in operating and maintenance costs.

(29) NESHAP for Marine Tank Vessel Loading Operations (40 CFR part 63, subpart Y), Docket ID Number: EPA-HQ-OECA-2010-0371, EPA ICR Number 1679.07, OMB Control Number 2060-0289, expiration July 31, 2011.

Affected Entities: Entities potentially affected by this action are the owners or operators of marine tank vessel loading operations.

Abstract: The affected entities are subject to the General Provisions of the NESHAP at 40 CFR part 63, subpart A, and any changes, or additions to the General Provisions specified at 40 CFR part 63, subpart Y.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 12 hours per response.

Respondents/Affected Entities: Owners or operators of marine tank vessel loading operations.

Estimated Number of Respondents: 804.

Frequency of Response: Initially, semiannually and annually.

Estimated Total Annual Hour Burden: 9,872.

Estimated Total Annual Cost: $629,850, which includes $629,850 in labor costs, no capital/startup costs and no operating and maintenance costs.

(30) NESHAP for Solvent Extraction for Vegetable Oil Production (40 CFR part 63, subpart GGGG), Docket ID Number: EPA-HQ-OECA-2010-0377, EPA ICR Number 1947.05, OMB Control Number 2060-0471, expiration July 31, 2011.

Affected Entities: Entities potentially affected by this action are the owners or operators of vegetable oil production facilities.

Abstract: The affected entities are subject to the General Provisions of the NESHAP at 40 CFR part 63, subpart A, and any changes, or additions to the General Provisions specified at 40 CFR part 63, subpart GGGG.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 185 hours per response.

Respondents/Affected Entities: Owners or operators of rubber tire manufacturing plants.

Estimated Number of Respondents: 101.

Frequency of Response: Initially, on-occasion and annually.

Estimated Total Annual Hour Burden: 39,385.

Estimated Total Annual Cost: $2,512,947, which includes $2,512,947 in labor costs, no capital/startup costs and no operating and maintenance costs.

(31) NESHAP for Electric Arc Furnace Steelmaking Facilities Area Sources (40 CFR part 63, subpart YYYYYY), Docket ID Number: EPA-HQ-OECA-2010-0353, EPA ICR Number 2277.03, OMB Control Number 2060-0608, expiration July 31, 2011.

Affected Entities: Entities potentially affected by this action are the owners or operators of electric arc furnace steelmaking facilities.

Abstract: The affected entities are subject to the General Provisions of the NESHAP at 40 CFR part 63, subpart A, and any changes, or additions to the General Provisions specified at 40 CFR part 63, subpart YYYYYY.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 10 hours per response.

Respondents/Affected Entities: Owners or operators of electric arc furnace steelmaking facilities.

Estimated Number of Respondents: 91.

Frequency of Response: Initially, semiannually and on-occasion.

Estimated Total Annual Hour Burden: 2,293.

Estimated Total Annual Cost: $121,573, which includes $121,573 in labor costs, no capital/startup costs and no operating and maintenance costs.

EPA will consider any comments received and may amend any of the above ICRs, as appropriate. Then the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: May 20, 2010.
Lisa C. Lund,
Director, Office of Compliance.

[FR Doc. 2010-13173 Filed 6-1-10; 8:45 am]

BILLING CODE 6560-50-P